DEPARTMENT OF THE INTERIOR

National Park Service

Delaware Water Gap National Recreation Area Citizen Advisory Commission Meeting

AGENCY: National Park Service, Interior.

ACTION: Notice of meeting.

SUMMARY: This notice announces public meetings of the Delaware Water Gap National Recreation Area Citizen Advisory Commission. Notice of these meetings is required under the Federal Advisory Committee Act (Public Law 92-463).

Meeting Date and Time: Saturday, April 13, 2002 at 9 a.m.

Address: Bushkill Visitor Center, Bushkill PA 18324.

The agenda will include reports from Citizen Advisory Commission members, specifically approval of minutes from the June 9 and October 11, 2001, and January 26, 2002 meetings. Superintendent William Laitner will give a report on various park issues. The meeting will be open to the public and there will be an opportunity for public comment on these issues.

Meeting Date and Time: Saturday, April 13, 2002 at 9 a.m.

Address: Bushkill Visitor Center, Bushkill PA 18324.

This meeting will immediately follow the previous meeting, same day. The agenda consists of the election of Commission officers for the 2002-2003 term.

Future public meetings dates have been scheduled for Saturday, June 1, 2002, at 8:00 a.m. at Grey Towers, Pinchot Institute in Milford, Pennsylvania, and Saturday, October 5, 2002 at 9:00 a.m. at the Walpack Environmental Education Center in Walpack, New Jersey.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

Congressional Listing for Delaware Water Gap NRA

Honorable Jon Corzine

United States Senate

Washington, DC 20510

Honorable Robert G. Torricelli

U.S. Senate

Washington, DC 20510-3001

Honorable Richard Santorum

U.S. Senate

SR 120 Senate Russell Office Bldg.

Washington, DC 20510

Honorable Arlen Specter

U.S. Senate

SH-530 Hart Senate Office Bldg.

Washington, DC 20510-3802

Honorable Pat Toomey

U.S. House of Representatives

Cannon House Office Bldg.

Washington DC 20515

Honorable Don Sherwood

U.S. House of Representatives

2370 Rayburn House Office Bldg.

Washington, DC 20515-3810

Honorable Margaret Roukema

U.S. House of Representatives

2244 Rayburn House Office Bldg.

Washington, DC 20515-3005

Honorable Mark Schweiker

State Capitol

Harrisburg, PA 17120

Governor of New Jersey

State House

Trenton, NJ 08625

FOR FURTHER INFORMATION CONTACT: Superintendent, Delaware Water Gap National Recreation Area, Bushkill, PA 18324, 570-588-2418.

Dated: February 4, 2002.
William G. Laitner,
Superintendent.

[FR Doc. 02-8631 Filed 4-9-02; 8:45 am]

BILLING CODE 4310-70-P